DEPARTMENT OF ENERGY

Federal Energy Regulatory Commission

Combined Notice of Filings #1

July 3, 2006.

Take notice that the Commission received the following electric rate filings.

Docket Numbers: ER03-693-003.

Applicants: ISG Sparrows Point LLC.

Description: ISG Sparrows Point LLC submits an amendment to its May 9, 2006 updated market power analysis in compliance with the Commission's orders dated May 7, 2003 and May 13, 2004.

Filed Date: June 28, 2006.

Accession Number: 20060629-0096.

Comment Date: 5 p.m. Eastern Time on Wednesday, July 19, 2006.

Docket Numbers: ER03-908-002.

Applicants: Fulcrum Power Marketing LLC.

Description: Fulcrum Power Marketing, LLC submits its triennial market power update pursuant to the Commission's order issued June 30, 2003.

Filed Date: June 28, 2006.

Accession Number: 20060630-0143.

Comment Date: 5 p.m. Eastern Time on Wednesday, July 19, 2006.

Docket Numbers: ER04-708-001.

Applicants: Horsehead Corp.

Description: Horsehead Corp. submits its amended petition for acceptance of their triennial market power analysis and market-based rate compliance filings.

Filed Date: June 29, 2006.

Accession Number: 20060703-0202.

Comment Date: 5 p.m. Eastern Time on Thursday, July 20, 2006.

Docket Numbers: ER06-819-001.

Applicants: Consolidated Edison Energy Massachusetts.

Description: Consolidated Edison Energy Massachusetts, Inc.'s request that page 6 be added to the June 26, 2006 response to Question 8.d of the May 26, 2006 deficiency letter.

Filed Date: June 28, 2006.

Accession Number: 20060630-0117.

Comment Date: 5 p.m. Eastern Time on Wednesday, July 19, 2006.

Docket Numbers: ER06-1118-001.

Applicants: ECP Energy, LLC.

Description: ECP Energy, LLC submits the Amended Application for order accepting initial tariff, waiving regulations, and granting blanket approvals.

Filed Date: June 29, 2006.

Accession Number: 20060703-0204.

Comment Date: 5 p.m. Eastern Time on Thursday, July 20, 2006.

Docket Numbers: ER06-1175-000.

Applicants: Delmarva Power & Light Company.

Description: Delmarva Power & Light Co. submits the Amended and Restated Mutual Operating Agreements with Town of Smyrna.

Filed Date: June 27, 2006.

Accession Number: 20060629-0094.

Comment Date: 5 p.m. Eastern Time on Tuesday, July 18, 2006.

Docket Numbers: ER06-1176-000.

Applicants: Carolina Power & Light Company.

Description: Carolina Power & Light Co. dba Progress Energy Carolinas, Inc. submits the Standard Large Generator Interconnection Agreement with North Carolina Electric Membership Corp.

Filed Date: June 28, 2006.

Accession Number: 20060629-0095.

Comment Date: 5 p.m. Eastern Time on Wednesday, July 19, 2006.

Docket Numbers: ER06-1182-000.

Applicants: Calumet Energy Team, LLC.

Description: Calumet Energy Team, LLC submits a rate schedule under which it specifies revenue requirement for providing Reactive Supply and Voltage Control from Generation Sourced Services.

Filed Date: June 29, 2006.

Accession Number: 20060703-0203.

Comment Date: 5 p.m. Eastern Time on Thursday, July 20, 2006.

Docket Numbers: ER06-1183-000.

Applicants: LG&E Energy LLC.

Description: LG&E Energy, LLC et al. submit compliance filing in accordance with FERC's March 17, 2006 Order.

Filed Date: June 28, 2006.

Accession Number: 20060703-0057.

Comment Date: 5 p.m. Eastern Time on Wednesday, July 19, 2006.

Docket Numbers: ER06-1184-000.

Applicants: Vermont Electric Power Company.

Description: Vermont Electric Power Co. submits a notice of cancellation for Rate Schedule 205, which is its certificate of concurrence in the “REMVEC II Agreement.”

Filed Date: June 29, 2006.

Accession Number: 20060703-0056.

Comment Date: 5 p.m. Eastern Time on Thursday, July 20, 2006.

Docket Numbers: ER06-1185-000.

Applicants: Pace Global Asset Management, LLC.

Description: Pace Global Asset Management, LLC submits Energy Management Agreement, request for confidential treatment and request for blanket authority and waivers.

Filed Date: June 29, 2006.

Accession Number: 20060703-0048.

Comment Date: 5 p.m. Eastern Time on Thursday, July 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10702 Filed 7-7-06; 8:45 am]

BILLING CODE 6717-01-P